GENERAL SERVICES ADMINISTRATION

Office of Communications; Cancellation of Standard Form

AGENCY: General Services Administration.

ACTION: Notice.

SUMMARY: Because of low usage the following Standard Form is cancelled: SF 14, Telegraphic Message.

DATES: Effective January 23, 2001.

FOR FURTHER INFORMATION CONTACT: Ms. Barbara Williams, General Services Administration, (202) 501-0581.

Dated: January 9, 2001.
Barbara M. Williams,
Deputy Standard and Optional Forms Management Officer.

[FR Doc. 01-1914 Filed 1-22-01; 8:45 am]

BILLING CODE 6820-34-M